DEPARTMENT OF HOMELAND SECURITY

Transportation Security Administration

Aviation Security Advisory Committee Meeting

AGENCY: Transportation Security Administration (TSA), DHS.

ACTION: Notice of meeting.

SUMMARY: This notice announces a meeting of the Aviation Security Advisory Committee (ASAC).

DATE: The meeting will take place on October 1, 2003, from 9 a.m. to 1 p.m.

ADDRESSES: The meeting will be held at the Crowne Plaza Washington National Hotel, 1489 Jefferson Davis Highway, Arlington, VA 22202. Telephone: (703) 416-1600.

FOR FURTHER INFORMATION CONTACT: Joseph Corrao, Office of Transportation Security Policy, TSA Headquarters (Room 1146N), 701 S. 12th Street, Arlington, VA, 22202; telephone 571-227-2980, e-mail joseph.corrao@dhs.gov.

SUPPLEMENTARY INFORMATION: This meeting is announced pursuant to section 10(a)(2) of the Federal Advisory Committee Act, as amended (5 U.S.C. App.). The agenda for the meeting will include the report of the air cargo transportation security working groups, and the report of the general aviation airport security guidelines working group. This meeting, from 9 a.m. to 1 p.m., is open to the public but attendance is limited to space available.

Members of the public must make advance arrangements to present oral statements at the open ASAC meeting. Written statements may be presented to the committee by providing copies of them to the Chair prior to or at the meeting. Anyone in need of assistance or a reasonable accommodation for the meeting, should contact the person listed under the heading FOR FURTHER INFORMATION CONTACT. In addition, sign and oral interpretation, as well as a listening device, can be made available at the meeting if requested 10 calendar days before the meeting. Arrangements may be made by contacting the person listed under the heading FOR FURTHER INFORMATION CONTACT.

Issued in Arlington, Virginia, on September 2, 2003.
Tom Blank,
Assistant Administrator for Transportation Security Policy.

[FR Doc. 03-22666 Filed 9-4-03; 8:45 am]

BILLING CODE 4910-62-P